Title 3—

The President

Memorandum of May 21, 2012

Designation of Officers of the Millennium Challenge Corporation To Act as Chief Executive Officer of the Millennium Challenge Corporation

Memorandum for the Chief Executive Officer of the Millennium Challenge Corporation

By the authority vested in me as President by the Constitution and the laws of the United States of America, including the Federal Vacancies Reform Act of 1998, as amended, 5 U.S.C. 3345 et seq. (the “Act”), it is hereby ordered that:

Section 1. Order of Succession. Subject to the provisions of section 2 of this memorandum and to the limitations set forth in the Act, the following officers of the Millennium Challenge Corporation (MCC), in the order listed, shall act as and perform the functions and duties of the Chief Executive Officer (CEO) of the MCC during any period in which the CEO of the MCC has died, resigned, or otherwise becomes unable or unavailable to perform the functions and duties of the office of the CEO of the MCC:

(a) Deputy Chief Executive Officer;

(b) Vice President, Department of Policy and Evaluation;

(c) Chief of Staff;

(d) Vice President, Department of Compact Operations;

(e) Senior Advisor;

(f) Vice President, Department of Congressional and Public Affairs;

(g) Vice President, General Counsel and Corporate Secretary; and

(h) Vice President, Department of Administration and Finance.

Sec. 2. Exceptions. (a) No individual who is serving in an office listed in section 1(a)-(h) of this memorandum in an acting capacity shall, by virtue of so serving, act as CEO of the MCC pursuant to this memorandum.

(b) No individual who is serving in an office listed in section 1(a)-(h) of this memorandum shall act as CEO of the MCC unless that individual is otherwise eligible to so serve under the Act.

(c) Notwithstanding the provisions of this memorandum, the President retains discretion, to the extent permitted by law, to depart from this memorandum in designating an acting CEO of the MCC.

Sec. 3. Judicial Review. This memorandum is not intended to, and does not, create any right or benefit, substantive or procedural, enforceable at law or in equity by any party against the United States, its departments, agencies, or entities, its officers, employees, or agents, or any other person.

Sec. 4. Publication. You are authorized and directed to publish this memorandum in the Federal Register.

THE WHITE HOUSE,

Washington, May 21, 2012

[FR Doc. 2012-12945

Filed 5-24-12; 8:45 am]

Billing code 9211-03-P